ENVIRONMENTAL PROTECTION AGENCY

[EPA-HQ-OW-2040-0299; FRL-11055-01-OW]

Proposed Information Collection Request; Comment Request; Use of Lead Free Pipes, Fittings, Fixtures, Solder and Flux for Drinking Water (Renewal)

AGENCY: Environmental Protection Agency (EPA).

ACTION: Notice.

SUMMARY: The Environmental Protection Agency (EPA) is planning to submit an information collection request (ICR), “Use of Lead Free Pipes, Fittings, Fixtures, Solder and Flux for Drinking Water (Renewal)” (EPA ICR No. 2563.02, OMB Control No. 2040-0299) to the Office of Management and Budget (OMB) for review and approval in accordance with the Paperwork Reduction Act. Before doing so, EPA is soliciting public comments on specific aspects of the proposed information collection as described below. This is a proposed extension of the ICR, which is currently approved through December 31, 2023. An Agency may not conduct or sponsor and a person is not required to respond to a collection of information unless it displays a currently valid OMB control number.

DATES: Comments must be submitted on or before September 11, 2023.

ADDRESSES: Submit your comments, referencing Docket ID No. EPA-HQ-OW-2040-0299, online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Kevin Roland, Drinking Water Infrastructure Development Division, Office of Ground Water and Drinking Water, (4606M), Environmental Protection Agency, 1200 Pennsylvania Ave. NW, Washington, DC 20460; telephone number: 202-564-4588: fax number: 202-564-3755; email address: roland.kevin@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Reduction of Lead in Drinking Water Act of 2011 (RLDWA, the Act) modified the technical definition of “lead free” by lowering the maximum lead content of pipes, fittings, and fixtures from 8% to 0.25% and introduced greater complexity to calculating lead free by requiring that level be met based on a weighted average of wetted surfaces. The Act also created exemptions for certain plumbing products from pre-existing lead free requirements. The Lead Free Rule was promulgated on September 1, 2000 and made conforming changes to existing regulations based on the RLDWA and the Community Fire Safety Act enacted by Congress. The final rule established product certification requirements for products intended for potable use applications in public water systems and residential or non-residential facilities to demonstrate compliance with the lead free requirements. Manufacturers with 10 or more employees or importers entering products purchased from or manufactured by manufacturers with 10 or more employees must demonstrate compliance with the lead free definition by obtaining third party certification by an American National Standards Institute (ANSI) accredited, third party certification body. Firms with fewer than 10 employees can use a third party certification body or self-certify that their products conform to the Safe Drinking Water Act's (SDWA) lead free requirements. This self-certification option also extends to custom fabricated products regardless of a manufacturer's number of employees. The final rule required that manufacturers or importers certify that their products meet the requirements using a consistent verification process before September 2023.

Form Numbers: None.

Respondents/affected entities: manufacturers of lead-free pipes, fixtures and fittings.

Respondent's obligation to respond: mandatory for compliance with Reduction of Lead in Drinking Water Act of 2011.

Estimated number of respondents: 2,193 (total).

Frequency of response: annual.

Total estimated burden: 77,838 hours (per year). Burden is defined at 5 CFR 1320.03(b).

Total estimated cost: $9.14 million (per year), includes $2.5 million annualized capital or operation & maintenance costs.

Changes in Estimates: There is an expected decrease of hours in the total estimated respondent burden compared with the ICR currently approved by OMB due to removing the burden for initial rule implementation, which is complete.

Jennifer McLain,
Director, Office of Ground Water and Drinking Water.

[FR Doc. 2023-14593 Filed 7-10-23; 8:45 am]

BILLING CODE 6560-50-P